FEDERAL FINANCIAL INSTITUTIONS EXAMINATION COUNCIL

[Docket No. AS21-08]

Appraisal Subcommittee Notice of Meeting

AGENCY: Appraisal Subcommittee of the Federal Financial Institutions Examination Council.

ACTION: Notice of meeting.

SUPPLEMENTARY INFORMATION: In accordance with Section 1104(b) of Title XI of the Financial Institutions Reform, Recovery, and Enforcement Act of 1989, as amended, notice is hereby given that the Appraisal Subcommittee (ASC) will meet in open session for a special meeting:

Location: Due to the COVID-19 Pandemic, the meeting will be open to the public via live webcast only. Visit the agency's homepage (www.asc.gov) and access the provided registration link in the What's New box. You MUST register in advance to attend this Meeting.

Date: December 8, 2021.

Time: 11:00 a.m. ET.

Status: Open.

Reports

Chairman

Executive Director

Grants Director

Financial Manager

Action and Discussion Items

Approval of Minutes

September 15, 2021 Open Session Quarterly Meeting

Notice of Proposed Rulemaking on Temporary Waiver

How To Attend and Observe an ASC Meeting

Due to the COVID-19 Pandemic, the meeting will be open to the public via live webcast only. Visit the agency's homepage (www.asc.gov) and access the provided registration link in the What's New box. The meeting space is intended to accommodate public attendees. However, if the space will not accommodate all requests, the ASC may refuse attendance on that reasonable basis. The use of any video or audio tape recording device, photographing device, or any other electronic or mechanical device designed for similar purposes is prohibited at ASC Meetings.

James R. Park,
Executive Director.

[FR Doc. 2021-25860 Filed 11-26-21; 8:45 am]

BILLING CODE 6700-01-P